DEPARTMENT OF THE INTERIOR

Bureau of Land Management

[NV-060-2800/1600]

Notice of availability of planning criteria for the Proposed Falcon to Gonder 345 kV Transmission Line Project and associated Bureau of Land Management Resource Management Plan Amendments for the Shoshone-Eureka, Elko, and Egan Resource Areas in Elko, Eureka, Lander, and White Pine Counties, Nevada

AGENCY: Bureau of Land Management, Interior.

Cooperating Agencies: Nevada Division of Wildlife, Nevada State Historic Preservation Office.

ACTION: Notice of availability of planning criteria associated with the Preparation of an Environmental Impact Statement to analyze Sierra Pacific Power Company's (SPPC) Proposed Falcon to Gonder 345 kV Transmission Line Project and associated amendments to existing Bureau of Land Management (BLM) Resource Management Plans (RMP) for the purpose of establishing right-of-way utility corridors in Elko, Eureka, Lander, and White Pine Counties, Nevada.

SUMMARY: Pursuant to 43 Code of Federal Regulations 1610 the Bureau of Land Management's Battle Mountain, Elko, and Ely Field Offices (BLM) hereby give notice of the availability of planning criteria for amendments to the Shoshone-Eureka, Elko, and Egan Resource Management Plans in Elko, Eureka, Lander, and White Pine Counties, Nevada.

DATES: Written comments on the planning criteria must be postmarked or otherwise delivered by 4:30 p.m. on October 2, 2000.

ADDRESSES: Written comments should be addressed to the Bureau of Land Management, Battle Mountain Field Office, Attention: Katherine Moses, 50 Bastian Road, Battle Mountain, Nevada 89820.

FOR FURTHER INFORMATION CONTACT: Mary Craggett, Battle Mountain BLM, at (775) 635-4168 or Katherine Moses, Battle Mountain BLM, at (775) 635-4092.

SUPPLEMENTARY INFORMATION: On December 17, 1998, SPPC filed a right-of-way application with the BLM for the construction, operation, and maintenance of a 165-185 mile long 345 kV transmission line that would connect the Falcon substation (north of Dunphy, Nevada) with the Gonder substation (north of Ely, Nevada). The project would improve import and export capabilities to meet anticipated growth in SPPC's system.

Because portions of the transmission line alternatives would be outside of BLM designated utility corridors, the BLM will evaluate the need to amend the Shoshone-Eureka, Elko, and Egan RMPs to establish a new utility corridor in north central Nevada. Elko's RMP would require modifying the existing “low visibility” corridor along I-80 to permit a corridor crossing since anticipated impacts exceed RMP established visual standards. Depending on the preferred alignment selected, the Egan RMP may not need to be amended because alternative route segments would fall into an existing designated utility corridor. An amendment to the Shoshone-Eureka RMP could also involve deleting an existing utility planning corridor near Nevada State Highway 305.

The following criteria will be used to evaluate the need for and planning implications of RMP amendments associated with the Falcon to Gonder Transmission Project:

• Emphasize a balanced multiple-use approach to land management, protecting fragile and unique resources, yet not overly restricting the ability of other resources to provide economic goods and services.

• Ensure a system for transmission of utilities through the Resource Management Planning Areas that would allow for future expansion by multiple users.

• Minimize adverse impacts to the environment by concentrating compatible rights-of-way in designated corridors that avoid sensitive resource values.

• Select the preferred alternative based on a combination which best meets demands for public lands while minimizing disruption of the human environment.

M. Lee Douthit,
Associate Field Manager, Battle Mountain Field Office.

[FR Doc. 00-22423 Filed 8-31-00; 8:45 am]

BILLING CODE 4310-HC-P